DEPARTMENT OF AGRICULTURE

Animal and Plant Health Inspection Service

9 CFR Parts 71, 77, 78, and 90

[Docket No. APHIS-2010-0125]

Secretary's Advisory Committee on Animal Health; Meeting

AGENCY: Animal and Plant Health Inspection Service, USDA.

ACTION: Notice of public meeting.

SUMMARY: This document informs the public of the next meeting of the Secretary's Advisory Committee on Animal Health. In this document, we provide a new date for the July 2011 meeting, which had been scheduled for the previous week. The meeting is being organized by the Animal and Plant Health Inspection Service to discuss matters of animal health, including the pending proposed rule implementing USDA's traceability framework and establishing an aquaculture subcommittee.

DATES: The meeting will be held July 22, 2011, from noon to 5 p.m. (eastern daylight time).

ADDRESSES: The meeting will be conducted as a multisite teleconference. Opportunities for public attendance are described in the Supplementary Information section of this document.

FOR FURTHER INFORMATION CONTACT: Mr. Michael R. Doerrer, Chief Operating Officer, Veterinary Services, APHIS, USDA, 4700 River Road, Unit 37, Riverdale, MD 20737; (301) 734-5665; e-mail: SACAH.Management@aphis.usda.gov.

SUPPLEMENTARY INFORMATION: The Secretary's Advisory Committee on Animal Health (the Committee) advises the Secretary of Agriculture on means to prevent, conduct surveillance on, monitor, control, or eradicate animal diseases of national importance. In doing so, the Committee will consider public health, conservation of natural resources, and the stability of livestock economies.

In this document, we are notifying the public of the next meeting of the Committee, which will be conducted as a multisite teleconference. We note that the date of this July 2011 meeting has changed from that provided in our prior notice (76 FR 9537, published February 18, 2011). The agenda for the July 22, 2011, meeting has not yet been finalized, but will be made available on the Committee's Web site as details become available. Additional details regarding the meeting, including the preliminary and final agendas, will be posted on the Committee's Web site at http://www.aphis.usda.gov/animal_health/acah/ in advance of each meeting. APHIS will publish another document in advance of the July 2011 meeting which will provide information on the meeting's agenda.

Public Attendance

The meeting will be open to the public, although public attendees will be joined to the meeting in “observation” or “listen-only” mode. Members of the public who wish to join the teleconference may do so by dialing 1-888-790-3291, followed by a public passcode, 1411045.

Questions and written statements for the meeting may be submitted up to 5 working days in advance of the meeting for the Committee's consideration. Questions and written statements may be sent via e-mail to SACAH.Management@aphis.usda.gov or mailed to the person listed under FOR FURTHER INFORMATION CONTACT at the beginning of this document. Statements may also be filed with the Committee after the meeting by sending them to SACAH.Management@aphis.usda.gov.

This notice of meeting is given pursuant to section 10 of the Federal Advisory Committee Act (5 U.S.C. App. 2).

Done in Washington, DC, this 13th day of May 2011.
Kevin Shea,
Acting Administrator, Animal and Plant Health Inspection Service.

[FR Doc. 2011-12311 Filed 5-18-11; 8:45 am]

BILLING CODE 3410-34-P